SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: July 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists previously approved projects, receiving approval of minor modifications, described below, pursuant to 18 CFR 806.18 for the time period specified above:

Minor Modifications Issued Under 18 CFR 806.18

1. Graymont (PA) Inc., Pleasant Gap Facility, Docket No. 20050306-2, Spring Township, Centre County, Pa.; approval to add Walker Township Water Association public water supply as an additional source of water for consumptive use; Approval Date: July 6, 2018.

2. Silver Springs Ranch, LLC, Docket No. 20170306-1, Monroe Township, Wyoming County, Pa.; approval authorizing the additional water use purpose of bulk supply to a horse training facility; Approval Date: July 20, 2018.

Authority: Pub. L. 91-575, 84 Stat. 1509 et seq., 18 CFR parts 806, 807, and 808.

Dated: October 4, 2018.
Stephanie L. Richardson,
Secretary to the Commission.

[FR Doc. 2018-22056 Filed 10-10-18; 8:45 am]

BILLING CODE 7040-01-P